DEPARTMENT OF TRANSPORTATION

Federal Aviation Administration

14 CFR Part 71

[Docket No. FAA-2021-0956; Airspace Docket No. 21-ANM-41]

RIN 2120-AA66

Modification of Class E Airspace; Gold Beach Municipal Airport, OR

AGENCY: Federal Aviation Administration (FAA), DOT.

ACTION: Final rule.

SUMMARY: This action modifies the Class E airspace extending upward from 700 feet above the surface of the earth, and removes the Class E airspace extending upward from 1,200 feet above the surface of the earth at Gold Beach Municipal Airport, Gold Beach, OR. This action would ensure the safety and management of instrument flight rules (IFR) operations at the airport.

DATES: Effective 0901 UTC, May 19, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783. FAA Order JO 7400.11F is also available for inspection at the National Archives and Records Administration (NARA). For information on the availability of FAA Order JO 7400.11F at NARA, email fr.inspection@nara.gov or go to https://www.archives.gov/federal-register/cfr/ibr-locations.html.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would amend Class E airspace extending upward from 700 feet above ground level, and remove the Class E airspace extending upward from 1,200 feet above ground level to support IFR operations at Gold Beach Municipal Airport, Gold Beach, OR.

History

The FAA published a notice of proposed rulemaking (NPRM) in the Federal Register (86 FR 64835; November 19, 2021) for Docket No. FAA-2021-0956 to modify Class E airspace at Gold Beach Municipal Airport, Gold Beach, OR. Interested parties were invited to participate in this rulemaking effort by submitting written comments on the proposal to the FAA. No comments were received.

Subsequent to publication of the NPRM, the FAA was notified that it had inadvertently left out the proposed removal of the Class E airspace extending upward from 1,200 feet above the surface of the earth from the Class E airspace legal description. The FAA is removing this airspace area from the Class E legal description because the area is contained within the Rogue Valley Class E6 domestic en route airspace area, and duplication is not necessary. Also subsequent to publication of the NPRM, the FAA became aware that it had inadvertently left out the phrase “[Amended]” from line one of the proposed legal description. The FAA is amending the Class E airspace for Gold Beach Municipal Airport, and the final rule includes this phrase in line one of the legal description. Lastly, and subsequent to the publication of the NPRM, the FAA is amending the body of the Class E airspace legal description for Gold Beach Municipal Airport. The description was updated to more easily and accurately describe the amended airspace at the airport, while keeping the design of the airspace the same.

Class E5 and Class E6 airspace designations are published in paragraphs 6005 and 6006, respectively, of FAA Order JO 7400.11F, dated August 10, 2021, and effective September 15, 2021, which is incorporated by reference in 14 CFR 71.1. The Class E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

The FAA is amending 14 CFR part 71 by modifying Class E airspace extending upward from 700 feet above the surface of the earth at Gold Beach Municipal Airport, Gold Beach, OR.

This airspace is designed to contain departing IFR aircraft until reaching 1,200 feet above the surface and arriving IFR aircraft descending below 1,500 feet above the surface. To properly contain IFR operations at the airport, the radius of the airspace is increased from 6.3 miles to 7.2 miles and the extension northwest of the airport is removed. Additionally, terminal IFR operations east of the airport are not authorized, due to terrain. Because of this limitation, a portion of the Class E airspace east of the airport is removed. Finally, Class E airspace extending upward from 1,200 feet above the surface of the earth within a 15-mile radius of the airport is removed, as the area is contained within the Rogue Valley Class E6 domestic en route airspace area, and duplication is not necessary.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6005 Class E Airspace Areas Extending Upward From 700 Feet or More Above the Surface of the Earth.

* * * * *

ANM OR E5 Gold Beach, OR [Amended]

Gold Beach Municipal Airport, OR

(Lat. 42°24′55″ N, long. 124°25′30″ W)

That airspace extending upward from 700 feet above the surface within an area beginning at a point on the 160° bearing, 7.2 miles from the airport, then clockwise to a point on the 010° bearing, 7.2 miles from the airport, thence to the point of beginning southeast of the airport.

Issued in Des Moines, Washington, on February 4, 2022.
B.G. Chew,
Acting Group Manager, Operations Support Group, Western Service Center.

[FR Doc. 2022-02750 Filed 2-9-22; 8:45 am]

BILLING CODE 4910-13-P